DEPARTMENT OF THE INTERIOR

National Park Service

[NPS-WASO-NRNHL-DTS#-40863; PPWOCRADI0, PCU00RP14.R50000]

National Register of Historic Places; Notification of Pending Nominations and Related Actions

AGENCY: National Park Service, Interior.

ACTION: Notice.

SUMMARY: The National Park Service is soliciting electronic comments on the significance of properties nominated before August 2, 2025, for listing or related actions in the National Register of Historic Places.

DATES: Comments should be submitted electronically by October 7, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for consideration were received by the National Park Service before August 2, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

CONNECTICUT

Litchfield County

Ezekial Beardsley-David Hare House and Studio, 148 Good Hill Road, Roxbury, SG100012221

New London County

Antone DeSant Houses, 745 and 751-753 Bank Street, New London, SG100012215

INDIANA

Porter County

Nike Missile Site C-32, 1100 N Mineral Springs Road & 1031-1035 North Wagner Road, Porter, SG100012210

MARYLAND

Baltimore County

Sila Residence (Women In Maryland Architecture, 1920-1970 MPS), 1801 Indian Head Road, Towson, MP100012217

Talbot County

Far Horizons (Women In Maryland Architecture, 1920-1970 MPS), 7238 Drum Point Road, St. Michaels, MP100012222

Wicomico County

Wicomico River Bridge (Historic Highway Bridges of Maryland, 1694-1965 MPS), 400 W Main Street (address of Operator's House parcel)/MD 991 (Main Street) over the Wicomico River, Salisbury, MP100012231

NEW JERSEY

Cape May County

Beth-Juda Hebrew Temple of Worship and Morris and Rebecca Green Annex, 3912 Pacific Avenue, Wildwood City, SG100012209

PENNSYLVANIA

Adams County

Lincoln Cemetery (African American Churches and Cemeteries in Pennsylvania, c. 1644-c. 1970 MPS), 408 Long Lane, Gettysburg, MP100012230

Erie County

The Weber House, 317 Frontier Drive, Erie, SG100012219

VERMONT

Windsor County

Jones Circle Historic District (Historic Residential Suburbs in the United States, 1830-1960 MPS), 6,11,12,16,18,22,24,28,27,32,34 Jones Circle, Norwich, MP100012214

WASHINGTON

Douglas County

45DO1427 (Spiritually Significant Rock Features of the Southern Columbia Plateau and Okanogan Highlands MPS), Address Restricted, Palisades vicinity, MP100012223

45DO1428 (Spiritually Significant Rock Features of the Southern Columbia Plateau and Okanogan Highlands MPS), Address Restricted, Palisades vicinity, MP100012224

45DO1429 (Spiritually Significant Rock Features of the Southern Columbia Plateau and Okanogan Highlands MPS), Address Restricted, Palisades vicinity, MP100012225

45DO1430 (Spiritually Significant Rock Features of the Southern Columbia Plateau and Okanogan Highlands MPS), Address Restricted, Palisades vicinity, MP100012226

45DO1431 (Spiritually Significant Rock Features of the Southern Columbia Plateau and Okanogan Highlands MPS), Address Restricted, Palisades vicinity, MP100012227

45DO1432 (Spiritually Significant Rock Features of the Southern Columbia Plateau and Okanogan Highlands MPS), Address Restricted, Palisades vicinity, MP100012228

45DO1433 (Spiritually Significant Rock Features of the Southern Columbia Plateau and Okanogan Highlands MPS), Address Restricted, Palisades vicinity, MP100012229

A request for removal has been made for the following resource(s):

FLORIDA

Volusia County

Ormond Hotel, 15 E Granada Blvd., Ormond Beach, OT80000964

Additional documentation has been received for the following resource(s):

ARIZONA

Pima County

Sunshine Mile Historic District (Additional Documentation), Broadway Blvd. between Euclid & Country Club Rds., Tucson, AD100005229

DISTRICT OF COLUMBIA

District of Columbia

Sewall-Belmont House National Historic Site (Additional Documentation), 144 Constitution Ave. NE, Washington, AD72001432

FLORIDA

Gulf County

Port Theatre (Additional Documentation), 314 Reid Ave., Port St. Joe, AD03000508

OHIO

Coshocton County

Johnson-Humrickhouse House (Additional Documentation), 317 Mulberry St., Coshocton, AD74001424

PENNSYLVANIA

Philadelphia County

Philadelphia College of Art (Additional Documentation), NW corner of Broad and Pine Sts., Philadelphia, AD71000733

Broad Street Historic District (Additional Documentation), Roughly bounded by Juniper, Cherry, 15th, and Pine Sts., Philadelphia, AD84003529

Authority: Section 60.13 of 36 CFR part 60.

Sherry A. Frear,
Chief, National Register of Historic Places/National Historic Landmarks Program.

[FR Doc. 2025-18248 Filed 9-19-25; 8:45 am]

BILLING CODE 4312-52-P